DEPARTMENT OF ENERGY

Federal Energy Regulatory Commission

Combined Notice of Filings #1

Take notice that the Commission received the following electric corporate filings:

Docket Numbers: EC16-66-001.

Applicants: Entergy Nuclear Indian Point 2, LLC, Entergy Nuclear Indian Point 3, LLC, Entergy Nuclear Palisades, LLC, Entergy Nuclear Power Marketing, LLC.

Description: Joint Application to Amend Existing Authorization under Federal Power Act Section 203 to Acquire Securities and Request for Shortened Notice Period of Entergy Nuclear Indian Point 2, LLC, et al.

Filed Date: 10/18/16.

Accession Number: 20161018-5182.

Comments Due: 5 p.m. ET 11/8/16.

Take notice that the Commission received the following electric rate filings:

Docket Numbers: ER10-2331-059; ER10-2319-050; ER10-2317-050; ER13-1351-032; ER10-2330-057.

Applicants: J.P. Morgan Ventures Energy Corporation, BE CA LLC, BE Alabama LLC, Florida Power Development LLC, Utility Contract Funding, L.L.C.

Description: Notice of Non-Material Change in Status of the J.P. Morgan Sellers, et al.

Filed Date: 10/19/16.

Accession Number: 20161019-5090.

Comments Due: 5 p.m. ET 11/9/16.

Docket Numbers: ER16-1129-003; ER16-1130-003; ER16-1131-003; ER16-1132-003.

Applicants: VPI Enterprises, Inc., DifWind Farms Limited I, DifWind Farms Limited II, DifWind Farms Limited V.

Description: Notice of Change in Status of the Coachella Sellers, et al.

Filed Date: 10/18/16.

Accession Number: 20161018-5177.

Comments Due: 5 p.m. ET 11/8/16.

Docket Numbers: ER16-2376-000; ER16-2377-000.

Applicants: FPL Energy Marcus Hook, L.P., FPL Energy MH50, L.P.

Description: Supplement to the September 22, 2016 Reactive Power Capability Testing Forms filed by FPL Energy Marcus Hook, L.P. and FPL Energy MH 50, L.P., et al.

Filed Date: 10/19/16.

Accession Number: 20161019-5053.

Comments Due: 5 p.m. ET 11/9/16.

Docket Numbers: ER16-2492-002.

Applicants: Phoenix Energy New England, LLC.

Description: Tariff Amendment: Amended MBR Tariff Filing to be effective 9/26/2016.

Filed Date: 10/19/16.

Accession Number: 20161019-5081.

Comments Due: 5 p.m. ET 11/9/16.

Docket Numbers: ER16-2492-003.

Applicants: Phoenix Energy New England, LLC.

Description: Tariff Amendment: Amended Tariff Filing to be effective 9/26/2016.

Filed Date: 10/19/16.

Accession Number: 20161019-5091.

Comments Due: 5 p.m. ET 11/9/16.

Docket Numbers: ER16-2692-001.

Applicants: Avista Corporation.

Description: Compliance filing: Avista Corp Order 827 and 828 Compliance Filing errata to be effective 10/14/2016.

Filed Date: 10/19/16.

Accession Number: 20161019-5113.

Comments Due: 5 p.m. ET 11/9/16.

Docket Numbers: ER17-135-000.

Applicants: DesertLink, LLC.

Description: DesertLink, LLC submits tariff filing per 35.1: Baseline new to be effective 12/19/2016.

Filed Date: 10/18/16.

Accession Number: 20161018-5139.

Comments Due: 5 p.m. ET 11/8/16.

Docket Numbers: ER17-136-000.

Applicants: CenterPoint Energy Houston Electric, LLC.

Description: § 205(d) Rate Filing: TFO Tariff Interim Rate Revision to Conform with PUCT-Approved ERCOT Rate to be effective 9/20/2016.

Filed Date: 10/18/16.

Accession Number: 20161018-5140.

Comments Due: 5 p.m. ET 11/8/16.

Docket Numbers: ER17-137-000.

Applicants: Emera Maine.

Description: Compliance filing: Order Nos. 827 and 828 Combined Compliance Filing to be effective 12/14/2016.

Filed Date: 10/19/16.

Accession Number: 20161019-5031.

Comments Due: 5 p.m. ET 11/9/16.

Docket Numbers: ER17-138-000.

Applicants: Southern California Edison Company.

Description: § 205(d) Rate Filing: True-Up SGIA Golden Solar, LLC WDT480 to be effective 12/19/2016.

Filed Date: 10/19/16.

Accession Number: 20161019-5032.

Comments Due: 5 p.m. ET 11/9/16.

Docket Numbers: ER17-139-000.

Applicants: Southern California Edison Company.

Description: § 205(d) Rate Filing: True-Up SGIA Golden Solar, LLC WDT481 to be effective 12/19/2016.

Filed Date: 10/19/16.

Accession Number: 20161019-5033.

Comments Due: 5 p.m. ET 11/9/16.

Docket Numbers: ER17-140-000.

Applicants: ISO New England Inc.

Description: § 205(d) Rate Filing: Revised Tariff Sheet for Recovery of Costs for the 2017 Operation of NESCOE to be effective 1/1/2017.

Filed Date: 10/19/16.

Accession Number: 20161019-5083.

Comments Due: 5 p.m. ET 11/9/16.

Docket Numbers: ER17-141-000.

Applicants: New York State Electric & Gas Corporation.

Description: § 205(d) Rate Filing: NYSEG-DCEC Attachment C Annual Update to be effective 1/1/2017.

Filed Date: 10/19/16.

Accession Number: 20161019-5096.

Comments Due: 5 p.m. ET 11/9/16.

Take notice that the Commission received the following electric securities filings:

Docket Numbers: ES17-2-000.

Applicants: Oklahoma Gas and Electric Company.

Description: Supplement to October 5, 2016 Application for Authorization of Issuance of Short-Term Debt Securities Under Section 204 of the Federal Power Act of Oklahoma Gas and Electric Company.

Filed Date: 10/18/16.

Accession Number: 20161018-5050.

Comments Due: 5 p.m. ET 11/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2016.
Nathaniel J. Davis, Sr.,
Deputy Secretary.

[FR Doc. 2016-25811 Filed 10-25-16; 8:45 am]

BILLING CODE 6717-01-P